DEPARTMENT OF COMMERCE

International Trade Administration

(A-580-601)

Top-of-the-Stove Stainless Steel Cooking Ware from the Republic of Korea; Continuation of the Antidumping Duty Order

AGENCY: Import Administration, International Trade Administration, Department of Commerce.

SUMMARY: As a result of the determinations by the Department of Commerce (the Department) and the International Trade Commission (ITC) that revocation of the antidumping duty order on top-of-the-stove stainless steel cooking ware (cooking ware) from the Republic of Korea (Korea) would likely lead to continuation or recurrence of dumping and material injury to an industry in the United States, the Department is publishing this notice of continuation of the cooking ware antidumping duty order.

EFFECTIVE DATE: November 17, 2005.

FOR FURTHER INFORMATION Zev Primor, AD/CVD Operations, Office IV, Import Administration, International Trade Administration, U.S. Department of Commerce, 14th Street & Constitution Avenue, NW, Washington, DC 20230; telephone: (202) 482-4114.

SUPPLEMENTARY INFORMATION:

Background

On March 1, 2005, the Department and the ITC initiated sunset reviews of the antidumping duty order on cooking ware from Korea pursuant to section 751(c) of the Tariff Act of 1930, as amended (the Act). See Initiation of Five-year (“Sunset”) Reviews, 70 FR 9919 (March 1, 2005). As a result of its review, the Department found that revocation of the antidumping duty order would likely lead to continuation or recurrence of dumping, and notified the ITC of the magnitude of the margins likely to prevail were the order revoked. See Top-of-the-Stove Stainless Steel Cooking Ware from the Republic of Korea and Taiwan; Final Results of the Expedited Sunset Reviews of the Antidumping Duty Orders, 70 FR 56443 (September 27, 2005).

On October 27, 2005, the ITC determined, pursuant to section 751(c) of the Act, that revocation of the antidumping duty order on cooking ware from Korea would likely lead to continuation or recurrence of material injury to an industry in the United States within a reasonably foreseeable time. See USITC Publication 3808 (October 2005) and Investigations Nos. 731-TA-298 and 299 (Second Review); Investigations Nos. 701-TA-267 and 268 and 731-TA-304 and 305 (Second Review); Porcelain-on-Steel Cooking Ware From China and Taiwan; Top-of-the-Stove Stainless Steel Cooking Ware From Korea and Taiwan, 70 FR 67740 (November 8, 2005).

Scope of the Order

The merchandise subject to this antidumping duty order is cooking ware from Korea. The subject merchandise is all non-electric cooking ware of stainless steel which may have one or more layers of aluminum, copper or carbon steel for more even heat distribution. The subject merchandise includes skillets, frying pans, omelette pans, saucepans, double boilers, stock pots, dutch ovens, casseroles, steamers, and other stainless steel vessels, all for cooking on stove top burners, except tea kettles and fish poachers. Excluded from the scope of the orders are stainless steel oven ware and stainless steel kitchen ware. The subject merchandise is currently classifiable under Harmonized Tariff Schedule of the United States (HTSUS) item numbers 7323.93.00 and 9604.00.00. The HTSUS item numbers are provided for convenience and Customs purposes only. The written description remains dispositive.

Determination

As a result of the determinations by the Department and the ITC that revocation of the antidumping duty order would likely lead to continuation or recurrence of dumping and material injury to an industry in the United States, pursuant to section 751(d)(2) of the Act, the Department hereby orders the continuation of the antidumping duty order on cooking ware from Korea. United States Customs and Border Protection (CBP) will continue to collect antidumping duty cash deposits at the rates in effect at the time of entry for all imports of subject merchandise. The effective date of continuation of this order will be the date of publication in the Federal Register of this Notice of Continuation. Pursuant to section 751(c)(2) of the Act, the Department intends to initiate the next five-year review of this order not later than November 2010.

The Department's and ITC's five-year (sunset) reviews and notices are in accordance with section 751(c) of the Act and published pursuant to section 777(i)(1) of the Act.

Dated: November 9, 2005.
Stephen J. Claeys,
Acting Assistant Secretary for Import Administration.

[FR Doc. E5-6372 Filed 11-16-05; 8:45 am]

BILLING CODE 3510-DS-S